DEPARTMENT OF LABOR

Employment and Training Administration

[TA-W-56,181]

Aladdin Industries, LLC, Corporate Headquarters, Nashville, TN; Notice of Negative Determination Regarding Application for Reconsideration

By application of January 19, 2005, the company official requested administrative reconsideration of the Department's negative determination regarding eligibility for workers and former workers of the subject firm to apply for Trade Adjustment Assistance (TAA) and Alternate Trade Adjustment Assistance (ATAA). The negative determination was signed on January 4, 2005, and will soon be published in the Federal Register.

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The request for reconsideration asserts that the workers subject of this petition worked alongside, and should be treated the same as, workers of Aladdin Industries, LLC, Nashville, Tennessee, who were previously certified eligible to apply for the TAA under petition number TA-W-41,514.

The certification for TA-W-41,514 was issued on July 18, 2002, and provided coverage to workers engaged in employment related to the production of hot and cold insulated products, including thermos bottles and beverages mugs, who became totally or partially separated from employment on or after April 19, 2001, through July 18, 2004. The certification was based on the findings that sales, production, and employment declined during the period under investigation (2000, 2001 and January through March 2002). During that same time period company imports of thermos bottles and beverage mugs increased.

The petition for TA-W-56,181, initiated on December 8, 2004, was filed by a company official on behalf of workers of the Corporate Headquarters of Aladdin Industries, Nashville, Tennessee. The company had sold the firm and production ceased on August 2, 2002. For more than one year prior to the date of the petition, the subject company did not produce any article at its Nashville, Tennessee facility. The investigation found that the corporate headquarters worker group was engaged in closing out the remaining business. Specifically, the activities at corporate headquarters consisted of accounting, employee benefits (insurance and pension), and clearing out and selling machinery.

The petition was denied because the firm did not produce an article within the meaning of Section 222(a)(2) of the Trade Act. Furthermore, the workers did not support production at an affiliated facility whose workers independently met the statutory criteria for TAA certification since Aladdin Industries, LLC ceased production in August 2002, more than one year prior to the petition date (December 1, 2004). Therefore, the Department determined that the corporate headquarters worker group cannot be certified as eligible to apply for adjustment assistance.

In order for the Department to issue a certification of eligibility to apply for ATAA, the subject worker group must be certified eligible to apply for trade adjustment assistance TAA. Since the workers are denied eligibility to apply for TAA, the worker group cannot be certified eligible for ATAA.

Conclusion

After review of the application and investigative findings, I conclude that there has been no error or misinterpretation of the law or of the facts which would justify reconsideration of the Department of Labor's prior decision. Accordingly, the application is denied.

Signed in Washington, DC, this 3rd day of February, 2005.
Elliott S. Kushner,
Certifying Officer, Division of Trade Adjustment Assistance.

[FR Doc. E5-700 Filed 2-22-05; 8:45 am]

BILLING CODE 4510-30-P